DEPARTMENT OF COMMERCE

National Oceanic and Atmospheric Administration

[I.D. 012202A ]

Proposed Information Collection; Comment Request; Vessel Monitoring System for Atlantic Highly Migratory Species

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before March 29, 2002.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Christopher Rogers, Highly Migratory Species Management Division (F/SF1), Office of Sustainable Fisheries, NMFS, 1315 East-West Highway, Silver Spring, MD 20910, or by e-mail at christopher.rogers@noaa.gov or phone at 301-713-2347.

SUPPLEMENTARY INFORMATION:

I. Abstract

Vessels fishing for Atlantic tuna and swordfish that use pelagic longline gear may be required to install and operate vessel monitoring systems. Automatic position reports would be submitted on an hourly basis whenever the vessel is at sea. The information aids in the enforcement of fishery regulations. Vessel operators may also be required to follow an equipment installation checklist and to then submit it to NOAA. The checklist provides information on the hardware and communications service selected by each vessel. NOAA will use the returned checklists to ensure that position reports are received and to aid NOAA in troubleshooting problems.

II. Method of Collection

Checklists are submitted in paper form. Position reports are automatically sent electronically by the vessel monitoring system units.

III. Data

OMB Number: 0648-0372.

Form Number: None.

Type of Review: Regular submission.

Affected Public: Business and other for-profit organizations.

Estimated Number of Respondents: 320.

Estimated Time Per Response: 4 hours for installation of equipment; 2 hours for annual maintenance of the equipment (beginning in the second year); 0.033 seconds per automated position report from the automated equipment; and 5 minutes to complete and return an installation checklist.

Estimated Total Annual Burden Hours: 883.

Estimated Total Annual Cost to Public: $754,500.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 17, 2002.
Madeleine Clayton,
Departmental Paperwork Clearance Officer, Office of the Chief Information Officer.

[FR Doc. 02-2004 Filed 1-25-02; 8:45 am]

BILLING CODE 3510-22-S